DEPARTMENT OF THE INTERIOR

Bureau of Land Management

[OR-027-1220-PG; G2-0099]

Steens Mountain Advisory Council, Call for Nominations

AGENCY: Bureau of Land Management (BLM), Burns District, Interior.

ACTION: Call for nominations for the Steens Mountain Advisory Council (SMAC).

SUMMARY: BLM is publishing this notice under Section 9(a)(2) of the Federal Advisory Committee Act. Pursuant to the Steens Mountain Cooperative Management and Protection Act of 2000 (Public Law 106-399), BLM gives notice that the Secretary of the Interior is calling for nominations for vacating positions to the SMAC. This notice requests the public to submit nominations for membership on the SMAC.

Any individual or organization may nominate one or more persons to serve on the SMAC. Individuals may nominate themselves for SMAC membership. Nomination forms may be obtained from the Burns District Office, Bureau of Land Management (see address below). To make a nomination, submit a completed nomination form, letter of reference from the represented interest or organizations, as well as any other information that speaks to the nominee's qualifications, to the Burns District Office. Nominations may be made for the following categories of interest:

• One person who is a grazing permittee on Federal land in the Steens Mountain Cooperative Management and Protection Area (CMPA) (appointed from nominees submitted by the County Court of Harney County);

• One person who is a recognized environmental representative from the local area (appointed from nominees submitted by the Governor of Oregon);

• A person who participates in what is commonly called dispersed recreation, such as hiking, camping, nature viewing, nature photography, bird watching, horseback riding, or trail walking (appointed from nominees submitted by the Oregon State Director of the BLM);

• A person with expertise and interest in wild horse management on Steens Mountain (appointed from nominees submitted by the Oregon State Director for BLM); and

• A person who has no financial interest in the CMPA to represent Statewide interests (appointed from nominees submitted by the Governor of Oregon).

The specific category the nominee will represent should be identified in the letter of nomination. The Burns District will collect the nomination forms and letters of reference and distribute them to the officials responsible for submitted nominations (County Court of Harney County, the Governor of Oregon, and BLM). BLM will then forward recommended nominations to the Secretary of the Interior, who has responsibility for making the appointments.

DATES: Nominations should be submitted to the address listed below no later than 30 days after publication of this notice.

FOR FURTHER INFORMATION CONTACT: Rhonda Karges, Management Support Specialist, Burns District Office, 28910 Hwy 20 West, Hines, Oregon 97738, (541) 573-4433, or Rhonda_Karges@or.blm.gov or from the following web sites http://www.or.blm.gov/Burns or http://www.or.blm.gov/steens (Public Law 106-399 in its entirety can be found on the Steens web site as previously sited.)

SUPPLEMENTARY INFORMATION: The purpose of the SMAC is to advise BLM on the management of the CMPA as described in Title 1 of Public Law 106-399. Each member will be a person who, as a result of training and experience, has knowledge or special expertise which qualifies him or her to provide advice from among the categories of interest listed above.

Members of the SMAC are appointed for terms of 3 years, except that, of the members first appointed, four members were appointed for a term of 1-year and four members were appointed a term of 2 years. The wild horse, dispersed recreation, local environmentalist, and grazing permittee positions were all 1-year terms and will expire August 2002. These four positions will all be replaced with 3-year terms, and will begin no earlier than August 2002. The no financial interest position was a 3-year term. The member of this position has resigned; therefore, the newly-appointed member will complete the existing 3-year term. This appointment will begin upon appointment and will expire August 2004.

Members will serve without monetary compensation, but will be reimbursed for travel and per diem expenses at current rates for government employees. The SMAC shall meet only at the call of the Designated Federal Official, but not less than once per year.

Dated: February 7, 2002.
Miles R. Brown,
Designated Federal Official, Bureau of Land Management.

[FR Doc. 02-9701 Filed 4-19-02; 8:45 am]

BILLING CODE 4310-$$-M